DEPARTMENT OF AGRICULTURE

Forest Service

Davy Crockett National Forest

February 5, 2009.

AGENCY: Forest Service, USDA.

ACTION: Notice of public meeting, Davy Crockett National Forest Resource Advisory Committee.

SUMMARY: In accordance with the Secure Rural Schools and Community Self Determination Act of 2000 (Pub. L. 106-393), [as reauthorized as part of Public Law 110-343] and the Federal Advisory Committee Act of 1972 (FACA), the U.S. Department of Agriculture, Forest Service, Davy Crockett National Forest Resource Advisory Committee (RAC) meeting will meet as indicated below.

DATES: The Davy Crockett National Forest RAC meeting will be held on March 5, 2009.

ADDRESSES: The Davy Crockett National Forest RAC meeting will be held at the Davy Crockett Ranger Station located on State Highway 7, approximately one-quarter mile West of FM 227 in Houston County, Texas. The meeting will begin at 6 p.m. and adjourn at approximately 8 p.m. A public comment period will begin at 7:45 p.m.

FOR FURTHER INFORMATION CONTACT: Brian Townsend, Designated Federal Officer, Davy Crockett National Forest, 18551 State Hwy. 7 E., Kennard, TX 75847: Telephone: 936-655-2299 ext. 240 or e-mail at: btownsend@fs.fed.us.

SUPPLEMENTARY INFORMATION: The Davy Crockett National Forest RAC proposes projects and funding to the Secretary of Agriculture under Section 203 of the Secure Rural Schools and Community Self Determination Act of 2000, (as reauthorized as part of Public Law 110-343). The purpose of the March 5, 2009 meeting is to update the members on the following: Project status, legislation, and the Groveton Stewardship Project. These meetings are open to the public. The public may present written comments to the RAC. Each formal RAC meeting will also have time, as identified above, persons wishing to comment and time available, the time for individual oral comments may be limited.

Brian Townsend,
Designated Federal Officer, Davy Crockett National Forest RAC.

[FR Doc. E9-3078 Filed 2-13-09; 8:45 am]

BILLING CODE 3410-11-M